DEPARTMENT OF HOMELAND SECURITY

U.S. Citizenship and Immigration Services

Agency Information Collection Activities: Form I-687; Extension of an Existing Information Collection; Comment Request

ACTION: 60-Day Notice of Information Collection Under Review; Application for Status as Temporary Resident under Section 245A of the INA, Form I-687.

The Department Homeland Security (DHS), U.S. Citizenship and Immigration Services (USCIS) has submitted the following information collection request for review and clearance in accordance with the Paperwork Reduction Act (PRA) of 1995. The information collection is published to obtain comments from the public and affected agencies. Comments are encouraged and will be accepted for 60 days until July 9, 2012.

During this 60-day period, USCIS will be evaluating whether to revise the Form I-687. Should USCIS decide to revise Form I-687, we will advise the public when we publish the 30-day notice in the Federal Register in accordance with the PRA. The public will then have 30 days to comment on any revisions to the Form I-687.

Written comments and/or suggestions regarding the item(s) contained in this notice, especially regarding the estimated public burden and associated response time, should be directed to the DHS, USCIS, Chief, Regulatory Coordination Division, Office of Policy and Strategy, 20 Massachusetts Avenue NW., Washington, DC 20529-2210. Comments may also be submitted to DHS via facsimile to 202-272-8518 or via email at USCISFRComment@dhs.gov. When submitting comments by email, please make sure to add OMB Control No. 1615-0090 in the subject box.

Written comments and suggestions from the public and affected agencies concerning the collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of an existing information collection.

(2) Title of the Form/Collection: Application for Status as Temporary Resident under Section 245A of the INA.

(3) Agency form number, if any, and the applicable component of the Department of Homeland Security sponsoring the collection: Form I-687; U.S. Citizenship and Immigration Services (USCIS).

(4) Affected public who will be asked or required to respond, as well as a brief abstract: Primary: Individuals or households. The collection of information on Form I-687 is required to verify the applicant's eligibility for temporary status, and if the applicant is deemed eligible, to grant the applicant the benefit sought.

(5) An estimate of the total number of respondents and the amount of time estimated for an average respondent to respond: 30 responses at 1 hour and 10 minutes (1.166 hours) per response.

(6) An estimate of the total public burden (in hours) associated with the collection: 35 annual burden hours.

If you need a copy of the information collection instrument, please visit the Web site at: http://www.regulations.gov/.

We may also be contacted at: USCIS, Regulatory Coordination Division, Office of Policy and Strategy, 20 Massachusetts Avenue NW., Washington, DC 20529-2210, Telephone number 202-272-8377.

Dated: May 7, 2012.
Sunday Aigbe,
Acting Chief, Regulatory Coordination Division, U.S. Citizenship and Immigration Services, Department of Homeland Security.

[FR Doc. 2012-11319 Filed 5-9-12; 8:45 am]

BILLING CODE 9111-97-P